DEPARTMENT OF COMMERCE

National Oceanic and Atmospheric Administration

[RTID 0648-XE945]

Management Track Assessment for Black Sea Bass, Bluefish, Scup, and Summer Flounder; Public Meeting

AGENCY: National Marine Fisheries Service (NMFS), National Oceanic and Atmospheric Administration (NOAA), Commerce.

ACTION: Notice of public meeting.

SUMMARY: NMFS will convene the Management Track Assessment Peer Review Meeting for the purpose of reviewing black sea bass, bluefish, scup, and summer flounder stocks. The Management Track Assessment Peer Review is a formal scientific peer-review process for evaluating and presenting stock assessment results to managers for fish stocks in the offshore U.S. waters of the northwest Atlantic. Assessments are prepared by the lead stock assessment scientist and reviewed by an independent panel of stock assessment experts. The public is invited to attend the presentations and discussions between the review panel and the scientists who have participated in the stock assessment process.

DATES: The Management Track Assessment Peer Review Meeting will be held from June 24, 2025-June 25, 2025. The meeting will conclude on June 25, 2025 at 12 p.m. Eastern Standard Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543 and virtually using this Google Meet link: https://meet.google.com/tdh-rcmm-cnv.

FOR FURTHER INFORMATION CONTACT: Brian Hooper, 508-258-9580; brian.hooper@noaa.gov.

SUPPLEMENTARY INFORMATION: For further information, please visit the NEFSC website at https://www.fisheries.noaa.gov/new-england-mid-atlantic/population-assessments/fishery-stock-assessments-new-england-and-mid-atlantic. For additional information about management track assessment peer review, please visit the NEFSC web page at https://www.fisheries.noaa.gov/new-england-mid-atlantic/population-assessments/management-track-stock-assessments.

Daily Meeting Agenda—Management Track Peer Review Meeting

The agenda is subject to change; all times are approximate and may be changed at the discretion of the Peer Review Chair.

Tuesday, June 24, 2025
Time | Stock | Topic | Presenter(s)
9 a.m |  | Welcome/Logistics Conduct of Meeting | Brian Hooper, Kristan Blackhart, Olaf Jenson, Chair.
9:15 a.m | Bluefish | Terms of Reference (TOR) Review & Panel Questions | Tony Wood, Panel.
10:15 a.m | Bluefish | Public Comment | Public.
10:30 a.m | Bluefish | Panel Deliberations | Panel.
11 a.m |  | Break
11:15 a.m | Bluefish | Panel Conclusions/Recommendations and Final Stock Wrap Up | Panel.
11:30 a.m | Scup | TOR Review & Panel Questions | Sam Truesdell, Panel.
12:30 p.m |  | Lunch
1:30 p.m | Scup | Public Comment | Public.
1:45 p.m | Scup | Panel Deliberations | Panel.
2:15 p.m | Scup | Panel Conclusions/Recommendations and Final Stock Wrap Up | Panel.
2:30 p.m |  | Break
2:45 p.m | Summer Flounder | TOR Review & Panel Questions | Sam Truesdell, Panel.
3:45 p.m | Summer Flounder | Public Comment | Public.
4 p.m | Summer Flounder | Panel Deliberations | Panel.
4:30 p.m | Summer Flounder | Panel Conclusions/Recommendations and Final Stock Wrap Up | Panel.
5 p.m |  | Adjourn

Wednesday, June 25, 2025
Time | Stock | Topic | Presenter(s)
9 a.m |  | Welcome/Logistics | Brian Hooper, Olaf Jensen, Chair.
9:05 a.m | Black Sea Bass | TOR Review & Panel Questions | Emily Liljestrand, Panel.
10:30 a.m | Black Sea Bass | Public Comment | Public.
10:45 a.m |  | Break
11 a.m | Black Sea Bass | Panel Deliberations | Panel.
11:30 a.m | Black Sea Bass | Panel Conclusions/Recommendations and Final Stock Wrap Up | Panel.
12 p.m |  | Adjourn

Special Accommodations

This meeting is physically accessible to people with disabilities. Special requests should be directed to Brian Hooper, via the email provided in the ADDRESSES section.

Authority: 16 U.S.C. 1801 et seq.

Dated: May 21, 2025.
Kelly Denit,
Director, Office of Sustainable Fisheries, National Marine Fisheries Service.

[FR Doc. 2025-09793 Filed 5-29-25; 8:45 am]

BILLING CODE 3510-22-P